DEPARTMENT OF ENERGY

Federal Energy Regulatory Commission

[Docket No. EL14-52-000]

ISO New England Inc., New England Power Pool; Notice of Institution of Section 206 Proceeding and Refund Effective Date

On May 30, 2014, the Commission issued an order in Docket No. EL14-52-000, pursuant to section 206 of the Federal Power Act (FPA), 16 U.S.C. 824e (2012), instituting an investigation into the justness and reasonableness of ISO New England Inc.'s (ISO-NE) Transmission, Markets, and Services Tariff, and establishing the just and reasonable rate. ISO New England Inc., et al. 147 FERC ¶ 61,172 (2014).

The refund effective date in Docket No. EL14-52-000, established pursuant to section 206(b) of the FPA, will be the date of publication of this notice in the Federal Register.

Dated: June 3, 2014.
Nathaniel J. Davis, Sr.,
Deputy Secretary.

[FR Doc. 2014-13369 Filed 6-6-14; 8:45 am]

BILLING CODE 6717-01-P